Title 3—

The President

Proclamation 9272 of May 4, 2015

National Charter Schools Week, 2015

By the President of the United States of America

A Proclamation

In today's global economy, a high-quality education is one of the best investments we can make in a child's future, and it is central to the promise that in America, where you start should not determine how far you can go. No matter who they are or where they come from, all children deserve the best education possible. During National Charter Schools Week, we recognize the role public charter schools play in providing America's daughters and sons with a chance to reach their fullest potential, and we recommit to strengthening our Nation's classrooms for all.

Innovation and experimentation are essential to bolstering our education system for the 21st century. As independent public schools, charter schools are able to try new models of learning and methods that encourage academic excellence and set students on a path to success. They are laboratories of learning and incubators for the ideas of tomorrow, but this flexibility comes with high standards and accountability. When a charter school does not measure up—when one is underperforming and not improving—we must make the tough decision to shut it down. But when charter schools are successful, they can help spur systemic reform, and their approaches can be replicated in classrooms across America. Today, especially in some of our Nation's most disadvantaged communities, successful charter schools are an important partner in increasing access to a high-quality education and closing the achievement gap.

I am dedicated to providing every child access to a complete and competitive education, and harnessing the power of American ingenuity has been vital to this commitment. My Administration has challenged States to raise education standards, improve teacher effectiveness, and adopt new strategies to help struggling schools. As part of this unprecedented effort, we have expanded support for high-performing public charter schools and given States the opportunity to embrace new ideas that improve all our Nation's classrooms. Our comprehensive approach to education reform has demonstrated that innovation yields results that benefit all students, that progress is possible, and that a world-class education can be within reach for all our young people. As President, I will continue to build on this success and work to ensure all children receive an education worthy of their potential.

Today, our Nation's very best charter schools are gateways to higher education and endless possibilities, lifting up students of all backgrounds and empowering them to achieve a brighter future. This week, we honor the parents, educators, and civic leaders who make the vision of charter schools a reality, and we continue our work to safeguard the promise that an education—one that expands horizons, challenges minds, and inspires a new generation of thinkers, doers, and dreamers—is within the reach of every girl and boy.

NOW, THEREFORE, I, BARACK OBAMA, President of the United States of America, by virtue of the authority vested in me by the Constitution and the laws of the United States, do hereby proclaim May 3 through May 9, 2015, as National Charter Schools Week. I commend our Nation's charter schools, teachers, and administrators, and I call on States and communities to support high quality public schools, including charter schools, and the students they serve.

IN WITNESS WHEREOF, I have hereunto set my hand this fourth day of May, in the year of our Lord two thousand fifteen, and of the Independence of the United States of America the two hundred and thirty-ninth.

[FR Doc. 2015-11294

Filed 5-6-15; 11:15 am]

Billing code 3295-F5